DEPARTMENT OF STATE

[Public Notice 4660]

Shipping Coordinating Committee; Notice of Meeting

The Shipping Coordinating Committee (SHC) will conduct a joint, open meeting at 1 p.m. on Thursday, May 20, 2004, at the Trade Winds Island Grand Beach Resort and Conference Center; 5600 Gulf Boulevard, St. Pete Beach, Florida. The meeting will be held in connection with the Radio Technical Commission for Maritime Services (RTCM) 2004 Annual Assembly Meeting. The purpose of the meeting is to review the outcome of the Eighth Session of the International Maritime Organization (IMO) Subcommittee on Radiocommunications and Search and Rescue (COMSAR) that occurred on February 16-20, 2004, at IMO headquarters in London, England. Additionally, the meeting is to prepare for the 50th session of the IMO Subcommittee on Safety of Navigation (NAV), which is scheduled for July 5-9, 2004, at IMO Headquarters in London.

Items of principal interest on the COMSAR agenda are:

—Maritime Safety Information for GMDSS

—Development of a procedure for recognition of mobile satellite systems

—Emergency radiocommunications

—Large passenger ship safety

—Issues related to maritime security

—Developments in maritime radiocommunication systems and technology, including long-range tracking

—Matters concerning Search & Rescue

—Planning for the 9th session of COMSAR

Items of principal interest on the NAV agenda are:

—Routing of ships, ship reporting and related matters

—Requirements for the display and use of Automatic Identification System (AIS) information on shipborne navigational displays

—Review of the 2000 High Speed Craft

—(HSC) Code and amendments to the Dynamically Supported (DSC) Code and the 1994 HSC Code

—Anchoring, mooring and towing equipment

—Revision of the fishing vessel Safety Code and voluntary guidelines

—Recommendations on high-risk oceanic crossing by adventure craft

—Review of performance standards for radar equipment

—International Telecommunication Union (ITU) matters, including Radiocommunication ITU-R Study Group 8 matters

—Large passenger ship safety: Effective voyage planning for large passenger ships

—Measures to enhance maritime security

—World-wide radionavigation system (WWRNS)

—Casualty analysis

—Guidance on early abandonment for bulk carriers

Members of the public may attend these meetings up to the seating capacity of the rooms. Interested persons may seek information, including meeting room numbers, by writing; Mr. Russell S. Levin, U.S. Coast Guard Headquarters, Commandant (G-SCT-2), Room 6509, 2100 Second Street, SW., Washington, DC 20593-0001, by calling: (202) 267-1389, or by sending Internet electronic mail to rlevin@comdt.uscg.mil. Information for the RTCM meeting can be found at https://www.rtcm.org/index2.html.

Dated: April 21, 2004.
Steven D. Poulin,
Executive Secretary, Shipping Coordinating Committee, Department of State.

[FR Doc. 04-9531 Filed 4-26-04; 8:45 am]

BILLING CODE 4710-07-P